DEPARTMENT OF THE INTERIOR

Bureau of Land Management

[CACA 51022 DOE/EIS-0439]

Notice of Availability of the Final Environmental Impact Statement for the Rice Solar Energy, LLC Rice Solar Energy Project and Proposed California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Western Area Power Administration (Western), the Bureau of Land Management (BLM), and the California Energy Commission (CEC) prepared a Final Environmental Impact Statement (EIS) and California Desert Conservation Area (CDCA) Plan Amendment for the Rice Solar Energy Project (RSEP) in Riverside County, California. By this Notice, the BLM is announcing the availability of the Proposed CDCA Plan Amendment/Final EIS.

DATES: The BLM planning regulations state that any person who meets the conditions as described in the regulations may protest the BLM's Proposed CDCA Plan Amendment. A person who meets the conditions and files a protest must file the protest by September 6, 2011.

ADDRESSES: Copies of the RSEP Proposed CDCA Plan Amendment/Final EIS have been sent to affected Federal, State, and local government agencies and to other stakeholders. Copies are available for public inspection at the Palm Springs South Coast Field Office, 1201 Bird Center Drive, Palm Springs, California 92262. Interested persons may also review the document at the following Web site: http://www.wapa.gov/transmission/RiceSolar.htm. All protests must be in writing and mailed to one of the following addresses:

Regular Mail: BLM Director (210), Attention: Brenda Hudgens-Williams, P.O. Box 71383, Washington, DC 20024-1383.

Overnight Mail: BLM Director (210), Attention: Brenda Hudgens-Williams, 20 M Street, SE, Room 2134LM, Washington, DC 20003.

FOR FURTHER INFORMATION CONTACT: Ms. Liana Reilly, NEPA Document Manager, Western Area Power Administration, P.O. Box 281213, Lakewood, Colorado 80228-8213, e-mail: RiceSolar@wapa.gov; or Ms. Allison Shaffer, Realty Specialist, telephone 760-833-7100, address (see above field office address), e-mail CAPSSolarRice@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The proposed Rice Solar Energy Project (Project) is a 150 megawatt (MW) solar electric power plant that would use concentrating solar “power tower” technology to capture the sun's heat to make steam, which would power traditional steam turbine generators. The solar generation facility, located on privately owned land, would contain the power block, a central receiver or tower, a solar field consisting of mirrors or heliostats to reflect the sun's energy to the central tower, a thermal energy storage system, technical and non-technical buildings, a storm water system, a water supply and treatment system, a wastewater system, evaporation ponds, construction parking and laydown areas, and other supporting facilities. The Project would use an air-cooled condenser (i.e., dry cooling technology) for power plant cooling. Water for the project (approximately up to 180 acre-feet per year) would be obtained from two new on-site wells.

Rice Solar Energy, LLC (RSE) has applied to Western to interconnect the proposed Project to Western's transmission system. A new 10-mile-long 230-kV generator tie-line would extend from the southern boundary of the solar facility to a new substation adjacent to Western's existing Parker-Blythe transmission line. The substation would be owned and operated by Western and would be approximately 3 acres in size. RSE has submitted a right-of-way (ROW) application to the BLM for the Project components (the generator tie-line, substation, and access road) to be constructed on a total of about 150 acres of land managed by the BLM. The project site is in an undeveloped area of the Mojave Desert in eastern Riverside County, California, near State Route 62, about 40 miles west of Blythe, California, and 15 miles west of Vidal Junction, California, on lands managed by the BLM.

The BLM's purpose and need for the RSEP is to respond to RSE's application under Title V of FLPMA (43 U.S.C. 1761) for a ROW grant to construct the 161-kV/230-kV transmission line, substation, and access road on public lands in compliance with FLPMA, BLM ROW regulations, and other applicable Federal laws. The BLM will decide whether to approve, approve with modification, or deny the ROW for the proposed RSEP project. The BLM will also consider amending the CDCA Plan (1980, as amended) in this analysis. The CDCA Plan, while recognizing the potential compatibility of solar generation facilities on public lands, requires that all sites associated with power generation or transmission not identified in that plan be considered through the plan amendment process. If the BLM decides to grant a ROW, the BLM would also amend the CDCA Plan, as required.

The Final EIS evaluates the potential impacts of the proposed RSEP and CDCA Plan Amendment on air quality, biological resources, cultural resources, water resources, geological resources and hazards, land use, noise, paleontological resources, public health, socioeconomics, soils, traffic and transportation, visual resources, wilderness characteristics, and other resources.

A Notice of Availability for the RSEP Draft CDCA Plan Amendment/Draft EIS was published by the EPA in the Federal Register on October 27, 2010 (75 FR 66078). The formal 90-day comment period ended on January 20, 2011. Comments were considered and incorporated as appropriate into the Proposed CDCA Plan Amendment/Final EIS. Public comments resulted in the addition of clarifying text, but did not significantly change proposed land use plan decisions.

On June 10, 2011, the EPA published a Notice of Availability in the Federal Register for the RSEP (76 FR 34073). That notice, however, did not identify the BLM's proposed plan amendment or the associated opportunity for protest. Today's notice fulfills the BLM's requirement, found at 43 CFR 1610.5-2, to provide eligible persons such opportunity.

Instructions for filing a protest with the BLM Director regarding the Proposed CDCA Plan Amendment may also be found at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-912-7212, and e-mails to Brenda_hidgens-williams@blm.gov. All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Thomas Pogacnik,
Deputy State Director, Natural Resources.

[FR Doc. 2011-19916 Filed 8-4-11; 8:45 am]

BILLING CODE 6450-01-P